ENVIRONMENTAL PROTECTION AGENCY

40 CFR Part 52

[EPA-R04-OAR-2005-AL-0002-200623e; FRL-8326-8]

Approval and Promulgation of Implementation Plans Alabama: Approval of Revisions to the State Implementation Plan; Re-Opening of Comment Period

AGENCY: Environmental Protection Agency (EPA).

ACTION: Proposed rule; re-opening of public comment period.

SUMMARY: EPA is re-opening the comment period for a proposed rule published April 12, 2007 (72 FR 18428). On April 12, 2007, EPA proposed to approve a revision to the State Implementation Plan for the State of Alabama regarding the State's visible emissions rule, Alabama Rule 335-3-4-.01 “Visible Emissions.” At the request of a commentor, EPA is re-opening the comment period through July 11, 2007.

DATES: Written comments must be received on or before July 11, 2007.

ADDRESSES: Comments should be submitted to: Ms. Stacy Harder, Regulatory Development Section, Air Planning Branch, Air, Pesticides and Toxics Management Division, U.S. Environmental Protection Agency, Region 4, 61 Forsyth Street, SW., Atlanta, Georgia 30303-8960. Phone: (404) 562-9042. E-mail: harder.stacy@epa.gov. Additional instructions to comment can be found in the notice of proposed rulemaking published April 12, 2007 (72 FR 18428).

FOR FURTHER INFORMATION CONTACT: Ms. Stacy Harder, Regulatory Development Section, Air Planning Branch, Air, Pesticides and Toxics Management Division, U.S. Environmental Protection Agency, Region 4, 61 Forsyth Street, SW., Atlanta, Georgia 30303-8960. The telephone number is (404) 562-9042. Ms. Harder can also be reached via electronic mail at harder.stacy@epa.gov.

Dated: June 5, 2007.
J.I. Palmer, Jr.,
Regional Administrator, Region 4.

[FR Doc. E7-11412 Filed 6-12-07; 8:45 am]

BILLING CODE 6560-50-P